DEPARTMENT OF STATE

[Delegation of Authority 292]

Delegation by the Deputy Secretary of State to the Assistant Secretary for Near Eastern Affairs of Authority To Submit Certain Iraq Reports to the Congress

By virtue of the authority vested in the Secretary of State, including section 1 of the State Department Basic Authorities Act, as amended (22 U.S.C. 2651a) and the Presidential Memorandum For the Secretary of State—Delegation of Certain Reporting Authority, dated July 2, 2004 (69 FR 43723), and delegated to the Deputy Secretary of State pursuant to Delegation of Authority 245 of April 23, 2001, I hereby delegate to the Assistant Secretary for Near Eastern Affairs the authority to approve submission of reports to the Congress pursuant to section 4 (a) of the Authorization for Use of Military Force Against Iraq Resolution of 2002, Public Law 107-243 and section 3 of the Authorization for Use of Military Force Against Iraq Resolution, Public Law 102-1.

Any act, executive order, regulation or procedure subject to, or affected by, this delegation shall be deemed to be such act, executive order, regulation or procedure as amended from time to time.

Notwithstanding this delegation of authority, the Secretary, the Deputy Secretary or the Under Secretary for Political Affairs may at any time exercise any authority or function delegated by this delegation of authority.

This delegation of authority shall be published in the Federal Register.

Dated: May 10, 2006.
Robert B. Zoellick,
Deputy Secretary of State, Department of State.

[FR Doc. E6-7579 Filed 5-17-06; 8:45 am]

BILLING CODE 4710-31-P